SECURITIES AND EXCHANGE COMMISSION

[Release No. 34-80325; File No. SR-ISE-2017-25]

Self-Regulatory Organizations; International Securities Exchange, LLC; Notice of Filing and Immediate Effectiveness of Proposed Rule Change To Rename the Exchange as Nasdaq ISE, LLC

March 29, 2017.

Pursuant to Section 19(b)(1) of the Securities Exchange Act of 1934 (the “Act”),¹ and Rule 19b-4 thereunder,² notice is hereby given that on March 17, 2017, the International Securities Exchange, LLC (“ISE” or “Exchange”) filed with the Securities and Exchange Commission (“SEC” or “Commission”) the proposed rule change as described in Items I and II below, which Items have been prepared by the Exchange. The Commission is publishing this notice to solicit comments on the proposed rule change from interested persons.

¹ 15 U.S.C. 78s(b)(1).

² 17 CFR 240.19b-4.

I. Self-Regulatory Organization's Statement of the Terms of Substance of the Proposed Rule Change

The Exchange proposes to amend its Second Amended and Restated Constitution, Third Amended and Restated LLC Agreement, Rule Book and Fee Schedule to rename itself Nasdaq ISE, LLC. In addition this rule change proposes to amend references to the names of certain affiliated markets within the ISE Rulebook.³

³ The affiliated markets are ISE Gemini, LLC and ISE Mercury, LLC.

The text of the proposed rule change is available on the Exchange's Web site at www.ise.com, at the principal office of the Exchange, and at the Commission's Public Reference Room.

II. Self-Regulatory Organization's Statement of the Purpose of, and Statutory Basis for, the Proposed Rule Change

In its filing with the Commission, the Exchange included statements concerning the purpose of and basis for the proposed rule change and discussed any comments it received on the proposed rule change. The text of these statements may be examined at the places specified in Item IV below. The Exchange has prepared summaries, set forth in sections A, B, and C below, of the most significant aspects of such statements.

A. Self-Regulatory Organization's Statement of the Purpose of, and Statutory Basis for, the Proposed Rule Change

1. Purpose

The purpose of the proposed rule change is to rename the Exchange to reflect its new placement within the Nasdaq, Inc. corporate structure in connection with the March 9, 2016 acquisition by Nasdaq of the capital stock of U.S. Exchange Holdings, and the thereby indirectly acquiring all of the interests of the International Securities Exchange, LLC, ISE Gemini, LLC and ISE Mercury, LLC.⁴

⁴ See Securities Exchange Act Release No. 78119 (June 27, 2016), 81 FR 41611 (SR-ISE-2016-11; SR-ISE Gemini-2016-05; SR-ISE Mercury-2016-10) (Order Granting Accelerated Approval of Proposed Rule Changes, Each as Modified by Amendment No. 1 Thereto, Relating to a Corporate Transaction in Which Nasdaq, Inc. Will Become the Indirect Parent of ISE, ISE Gemini, and ISE Mercury).

Specifically, all references in the Exchange's Second Amended and Restated Constitution and Third Amended and Restated Limited Liability Company Agreement, Rule Book and Fee Schedule to “International Securities Exchange, LLC,” “ISE, LLC,” or “ISE” shall be amended to “Nasdaq ISE, LLC” or “Nasdaq ISE.” Moreover, consistent with changes already filed for ISE Gemini, LLC, the rule change proposes to amend references to “ISE Gemini” to “Nasdaq GEMX,” and references to “ISE Mercury” and “Mercury” to “Nasdaq MRX.” ⁵ The Exchange also proposes minor grammatical changes which are necessary as a result of the name change, i.e., amending “a” to “an.” The Exchange proposes to amend its name for ISE on April 3, 2017.

⁵ See Securities Exchange Act Release No. 80248 (March 15, 2017) (SR-ISEGemini-2017-13). See also SR-ISEMercury-2017-05.

2. Statutory Basis

The Exchange believes that its proposal is consistent with Section 6(b) of the Act,⁶ in general, and furthers the objectives of Section 6(b)(5) of the Act,⁷ in particular, in that it is designed to promote just and equitable principles of trade, to remove impediments to and perfect the mechanism of a free and open market and a national market system, and, in general to protect investors and the public interest by renaming the Exchange and updating the names of certain affiliated markets to reflect its current ownership.

⁶ 15 U.S.C. 78f(b).

⁷ 15 U.S.C. 78f(b)(5).

B. Self-Regulatory Organization's Statement on Burden on Competition

The Exchange does not believe that the proposed rule change will impose any burden on competition not necessary or appropriate in furtherance of the purposes of the Act. The Exchange does not believe that the proposed rule change will impact the intense competition that exists in the options market. The name change will reflect the current ownership structure and unify the options markets operated by Nasdaq, Inc.

C. Self-Regulatory Organization's Statement on Comments on the Proposed Rule Change Received From Members, Participants, or Others

No written comments were either solicited or received.

III. Date of Effectiveness of the Proposed Rule Change and Timing for Commission Action

Because the proposed rule change does not (i) significantly affect the protection of investors or the public interest; (ii) impose any significant burden on competition; and (iii) become operative for 30 days from the date on which it was filed, or such shorter time as the Commission may designate, it has become effective pursuant to Section 19(b)(3)(A) of the Act ⁸ and Rule 19b-4(f)(6) thereunder.⁹

⁸ 15 U.S.C. 78s(b)(3)(A).

⁹ 17 CFR 240.19b-4(f)(6). As required under Rule 19b-4(f)(6)(iii), the Exchange provided the Commission with written notice of its intent to file the proposed rule change, along with a brief description and the text of the proposed rule change, at least five business days prior to the date of filing of the proposed rule change, or such shorter time as designated by the Commission.

A proposed rule change filed pursuant to Rule 19b-4(f)(6) under the Act ¹⁰ normally does not become operative for 30 days after the date of its filing. However, Rule 19b-4(f)(6)(iii) ¹¹ permits the Commission to designate a shorter time if such action is consistent with the protection of investors and the public interest. The Exchange has asked the Commission to waive the 30-day operative delay so that the Exchange may amend its name as of April 3, 2017. The Exchange stated that it intends to announce the name change for ISE and certain of its affiliated markets on the same date to reflect the unified ownership of these markets by Nasdaq, Inc.¹² The Exchange believes that changing the names of all three affiliated markets at the same time is consistent with the protection of investors and the public interest because it will avoid any confusion that may arise with respect to the ownership by Nasdaq of the three markets, and will relieve various administrative burdens associated with the name changes.¹³ The Commission believes the waiver of the operative delay is consistent with the protection of investors and the public interest. Accordingly, the Commission hereby waives the operative delay and designates the proposed rule change operative upon filing.¹⁴

¹⁰ 17 CFR 240.19b-4(f)(6).

¹¹ 17 CFR 240.19b-4(f)(6)(iii).

¹² ISE Gemini, LLC and ISE Mercury, LLC have proposed in separate rule changes to amend their names as of April 3, 2017. See Securities Exchange Act Release No. 80248 (March 15, 2017), 82 FR 14547 (March 21, 2017) (SR-ISEGemini-2017-13) (“Nasdaq GEMX Proposal”). See also Securities Exchange Act Release No. 34-80326 (March 29, 2017) (SR-ISEMercury-2017-05) (“Nasdaq MRX Proposal”).

¹³ For example, the Exchange states that it is notifying a number of parties of the name change along with members of all three of the markets; the Exchange and members may have to update contractual agreements or forms as a result of the name change; and administrative changes can be accomplished at the same time if the operative dates of all three of the entities are aligned. The Exchange believes that it is in the interest of the members of ISE and the members of other markets, as well as the public, to change the names of the three markets at the same time to avoid additional administrative burdens if it were to change the names of the three markets on different dates. See Item 7 of SR-ISE-2017-25, Form 19b-4. The Exchange further states that it will provide notification of the name changes to the members of all three affiliated markets. Id.

¹⁴ The Commission notes that it has also waived the operative delay for the proposed rule changes associated with the renaming of ISE Gemini, LLC to Nasdaq GEMX, LLC, and ISE Mercury, LLC to Nasdaq MRX, LLC. See Nasdaq GEMX Proposal, supra note 12; and Nasdaq MRX Proposal, supra note 12. For purposes only of waiving the 30-day operative delay, the Commission has also considered the proposed rule's impact on efficiency, competition, and capital formation. See 15 U.S.C. 78c(f).

At any time within 60 days of the filing of the proposed rule change, the Commission summarily may temporarily suspend such rule change if it appears to the Commission that such action is necessary or appropriate in the public interest, for the protection of investors, or otherwise in furtherance of the purposes of the Act. If the Commission takes such action, the Commission shall institute proceedings to determine whether the proposed rule should be approved or disapproved.

IV. Solicitation of Comments

Interested persons are invited to submit written data, views, and arguments concerning the foregoing, including whether the proposed rule change is consistent with the Act. Comments may be submitted by any of the following methods:

Electronic Comments

• Use the Commission's Internet comment form (http://www.sec.gov/rules/sro.shtml); or

• Send an email to rule-comments@sec.gov. Please include File Number SR-ISE-2017-25 on the subject line.

Paper Comments

• Send paper comments in triplicate to Brent J. Fields, Secretary, Securities and Exchange Commission, 100 F Street NE., Washington, DC 20549-1090.

All submissions should refer to File Number SR-ISE-2017-25. This file number should be included on the subject line if email is used. To help the Commission process and review your comments more efficiently, please use only one method. The Commission will post all comments on the Commission's Internet Web site (http://www.sec.gov/rules/sro.shtml). Copies of the submission, all subsequent amendments, all written statements with respect to the proposed rule change that are filed with the Commission, and all written communications relating to the proposed rule change between the Commission and any person, other than those that may be withheld from the public in accordance with the provisions of 5 U.S.C. 552, will be available for Web site viewing and printing in the Commission's Public Reference Room, 100 F Street NE., Washington, DC 20549 on official business days between the hours of 10:00 a.m. and 3:00 p.m. Copies of such filing also will be available for inspection and copying at the principal office of the Exchange. All comments received will be posted without change; the Commission does not edit personal identifying information from submissions. You should submit only information that you wish to make available publicly. All submissions should refer to File Number SR-ISE-2017-25, and should be submitted on or before April 25, 2017.

¹⁵ 17 CFR 200.30-3(a)(12).

For the Commission, by the Division of Trading and Markets, pursuant to delegated authority.¹⁵
Eduardo A. Aleman,
Assistant Secretary.

[FR Doc. 2017-06560 Filed 4-3-17; 8:45 am]

BILLING CODE 8011-01-P